DEPARTMENT OF STATE

[Public Notice 5403]

Notice of Intent To Amend the Charter of the Secretary of State's Advisory Committee on Transformational Diplomacy

Summary: Pursuant to section 9(a) of the Federal Advisory Committee Act (Pub. L. 92-463) and under the general authority of the Secretary and the Department of State, as derived from the President's constitutional authority and as set forth in sections 2656 and 2651a of Title 22 of the United States Code and other relevant statutes, this is a notice of intent to amend the charter established for the Secretary of State's Advisory Committee on Transformational Diplomacy.

The Advisory Committee is to provide private sector expertise related to transformational diplomacy and other institutional challenges facing the Department of State, in particular as they concern the effective structuring, leadership and management of a global diplomacy enterprise. Members of the Advisory Committee may include private sector individuals, including former U.S. Government officials. All meetings of this Committee will be published ahead of time in the Federal Register.

Additionally, the Secretary of State's Advisory Committee on Transformational Diplomacy is essential to the conduct of Department of State business, and is in the public interest. Further information regarding this committee may be obtained from Madelyn S. Marchessault, Office of Management Policy, U.S. Department of State, Washington, DC 20520, phone (202) 647-1068.

Dated: May 16, 2006.
Marguerite Coffey,
Acting Director, Office of Management Policy, Department of State.

[FR Doc. E6-8957 Filed 6-7-06; 8:45 am]

BILLING CODE 4710-35-P